INTERNATIONAL TRADE COMMISSION

[Inv. No. 337-TA-548]

In the Matter of Certain Tissue Converting Machinery, Including Rewinders, Tail Sealers, Trim Removers, and Components Thereof; Notice of a Commission Determination Not To Review an Initial Determination Terminating the Investigation on the Basis of a Settlement Agreement

AGENCY: U.S. International Trade Commission.

ACTION: Notice.

SUMMARY: Notice is hereby given that the U.S. International Trade Commission has determined not to review an initial determination (“ID”) of the presiding administrative law judge (“ALJ”) granting the joint motion of complainants Fabio Perini North America, Inc. and Fabio Perini S.p.A and respondent Chan Li Machinery Co., Ltd. to terminate the above-captioned investigation on the basis of a settlement agreement.

FOR FURTHER INFORMATION CONTACT: Jonathan J. Engler, Esq., Office of the General Counsel, U.S. International Trade Commission, 500 E Street, SW., Washington, DC 20436, telephone 202-205-3112. Copies of the public version of the ID and all nonconfidential documents filed in connection with this investigation are or will be available for inspection during official business hours (8:45 a.m. to 5:15 p.m.) in the Office of the Secretary, U.S. International Trade Commission, 500 E Street, SW., Washington, DC 20436, telephone 202-205-2000. Hearing-impaired persons are advised that information on this matter can be obtained by contacting the Commission's TDD terminal on 202-205-1810. General information concerning the Commission may also be obtained by accessing its Internet server (http://www.usitc.gov). The public record for this investigation may be viewed on the Commission's electronic docket (EDIS) at http://edis.usitc.gov.

SUPPLEMENTARY INFORMATION: This investigation was instituted by the Commission based on a complaint filed by Fabio Perini North America Inc. of Green Bay, Wisconsin. 70 FR 46884 (August 11, 2005). The complaint alleged violations section 337 of the Tariff Act of 1930, 19 U.S.C. 1337, in the importation into the United States, the sale for importation, and the sale within the United States after importation of certain tissue converting machinery, including rewinders, tail sealers, trim removers, and components thereof by reason of infringement of claims 1, 3, 6-8, and 13-15 of U.S. Patent No. 5,979,818, claims 1-5 of U.S. Patent No. Re. 35,729, and claim 5 of U.S. Patent No. 5,475,917. The complaint and notice of investigation named Chan Li Machinery, Co., Ltd. of Taipei Hsien, Taiwan as the respondent.

The Commission determined not to review ALJ Order No. 10, adding to this investigation claims 7, 12, 15 and 16 of U.S. Patent No. 6,948,677, and ALJ Order No. 11, adding Fabio Perini S.p.A. (of Italy) as a complainant. See Certain Tissue Converting Machinery, Including Rewinders, Tail Sealers, Trim Removers, and Components Thereof, Inv. No. 337-TA-548, Notice of Commission Decision Not to Review, 71 FR 10065 (February 28, 2006). On February 22, 2006, the ALJ issued Order No. 13 staying the proceedings in view of settlement negotiations.

On February 27, 2006, Fabio Perini North America, Inc., Fabio Perini S.p.A., and Chan Li Machinery Co. Ltd. filed a “Joint Motion to Terminate Investigation Based Upon Settlement Agreement.” On March 6, 2006, the Commission Investigative Attorney filed a motion in support of the joint motion to terminate, noting that it was unaware of any information indicating that the basis of the settlement agreement would be contrary to the public interest.

On March 13, 2006, the ALJ issued the subject ID (Order No. 14) terminating the investigation on the basis of a settlement agreement. The ALJ found no indication that termination of the investigation on the basis of the settlement agreement would adversely affect the public interest, and that the procedural requirements for terminating the investigation had been met. No petitions for review were filed.

The Commission has determined not to review the ID.

This action is taken under the authority of section 337 of the Tariff Act of 1930, as amended, 19 U.S.C. 1337, and Commission rule 210.42, 19 CFR 210.42.

Issued: April 12, 2006.
By order of the Commission.
Marilyn R. Abbott,
Secretary to the Commission.

[FR Doc. E6-5786 Filed 4-17-06; 8:45 am]

BILLING CODE 7020-02-P